DEPARTMENT OF HOMELAND SECURITY

Coast Guard

33 CFR Part 165

[Docket No. USCG-2023-0690]

RIN 1625-AA08

Special Local Regulations; Recurring Marine Events, Sector Key West, Update; Correction

AGENCY: Coast Guard, DHS).

ACTION: Final rule; correcting amendment.

SUMMARY: The Coast Guard published a document in the Federal Register on July 19, 2024, revising its existing regulations by updating the table for existing events in the Seventh Coast Guard District Captain of the Port (COTP) Key West. The document contained an incorrect footnote reference.

DATES: Effective August 5, 2024.

FOR FURTHER INFORMATION CONTACT: If you have questions about this rule, call or email Lieutenant Hailye Wilson, Sector Key West, Waterways Management Division, Coast Guard; telephone 305-292-8768 (ext. 768), email Hailye.M.Wilson@uscg.mil.

SUPPLEMENTARY INFORMATION: The document published on July 19, 2024, at FR doc. 2024-15552, contained an error in the regulatory text set out in instruction 2, revising section (b), in table 1 to 33 CFR 100.701. In section (b), in table 1 § 100.701, line number 4, column number 4, there is a footnote 1; however, there is no text for footnote 1. Reference to footnote 1 will be removed from the regulatory text.

List of Subjects in 33 CFR Part 100

Harbors, Marine Safety, Navigation (water), Reporting and Record keeping requirements, Security measures, Waterways.

For the reasons discussed in the preamble, the Coast Guard amends 33 CFR part 100 as follows:

PART 100—SAFETY OF LIFE ON NAVIGABLE WATERS

1. The authority citation for part 100 continues to read as follows:

Authority: 46 U.S.C. 70041; 33 CFR 1.05-1.

2. In § 100.701, in table 1, under the heading “(b) COTP Zone Key West; Special Local Regulations,” revise entry 4. to read as follows:

§ 100.701 Special Local Regulations; Marine Events in the Seventh Coast Guard District.

* * * * *

Table 1 to § 100.701
Number/date | Event | Sponsor | Location
* * * * * * *
|  | (b) COTP Zone Key West; Special Local Regulations
* * * * * * *
4. One Saturday in September | Alligator Reef Lighthouse Swim | Friends of The Pool, Inc | Location(s) (Primary): Beginning at a point Latitude 24°54.82′ N, longitude 080°38.03′ W, thence to latitude 24°54.36′ N, longitude 080°37.72′ W, thence to latitude 24°51.07′ N, longitude 080°37.14′ W, thence to latitude 24°54.36′ N, longitude 080°37.72′ W, thence to point of origin at latitude 24°54.82′ N, longitude 080°38.03′ W.
|  |  | Location(s) (Alternate): Beginning at a point Latitude 24°54.82′ N, longitude 080°38.03′ W, thence to latitude 24°53.25′ N, longitude 080°37.04′ W, thence to latitude 24°52.05′ N, longitude 080°38.85′ W, thence to latitude 24°54.36′ N, longitude 080°37.72′ W, thence to point of origin at latitude 24°54.82′ N, longitude 080°38.03′ W.
* * * * * * *

Dated: July 30, 2024.
Michael T. Cunningham,
Chief, Office of Regulations and Administrative Law, U.S. Coast Guard.

[FR Doc. 2024-17183 Filed 8-2-24; 8:45 am]

BILLING CODE 9110-04-P